NATIONAL SCIENCE FOUNDATION

Proposal Review Panel for Chemistry; Notice of Meeting

In accordance with the Federal Advisory Committee Act (Pub. L. 92-463 as amended), the National Science Foundation announces the following meeting:

Name: Site visit of the Centers for Chemical Innovation (CCI) at The Georgia Institute of Technology and The University of Massachusetts, Proposal Review Panel for Chemistry (#1191).

Dates and Times:

March 8, 2010; 6 p.m.-9 p.m.

March 9, 2010; 8 a.m.-3:30 p.m.

March 10, 2010; 8 a.m.-8 p.m.

Places: Department of Chemistry, Georgia Institute of Technology, Atlanta, GA 30332.

Department of Chemistry, The University of Massachusetts, Amherst, MA 01002.

Type of Meeting: Part-open.

Contact Person: Dr. William Brittain, Program Director, Chemistry Centers Program, Division of Materials Research, Room 1055, National Science Foundation, 4201 Wilson Boulevard, Arlington, VA 22230, Telephone (703) 292-5039.

Purpose of Meeting: To provide advice and recommendations concerning Phase II funding.

Agenda: Monday, March 8, 2010 (Atlanta, GA).

6 p.m.-7 p.m. Closed—Panel Briefing.

7 p.m.-9 p.m. Open—Dinner.

Tuesday, March 9, 2010 (Atlanta, GA).

8:30 a.m.-12 p.m. Open—CCI Presentation.

12 p.m.-1:30 p.m. Closed—Executive Session/Lunch.

1:30 p.m.-2:30 p.m. Open—CCI Presentation.

2:30 p.m.-3:30 p.m. Closed—Executive Session.

Wednesday, March 10, 2010 (Amherst, MA).

8:30 a.m.-12 p.m. Open—CCI Presentation.

12 p.m.-1:30 p.m. Closed—Executive Session/Lunch.

1:30 p.m.-2:30 p.m. Open—CCI Presentation.

2:30 p.m.-3:30 p.m. Closed—Executive Session.

4:30 p.m.-8:30 p.m. Closed—Executive Session.

Reason for Closing: The work being reviewed may include information of a proprietary or confidential nature, including technical information; financial data, such as salaries and personal information concerning individuals associated with the proposals. These matters are exempt under 5 U.S.C. 552 b(c), (4) and (6) of the Government in the Sunshine Act.

Dated: January 28, 2010.
Susanne Bolton,
Committee Management Officer.

[FR Doc. 2010-2113 Filed 2-1-10; 8:45 am]

BILLING CODE 7555-01-P